DEPARTMENT OF TRANSPORTATION

Federal Aviation Administration

14 CFR Part 39

[Docket No. FAA-2008-0256; Directorate Identifier 2007-SW-01-AD]

RIN 2120-AA64

Airworthiness Directives; Agusta S.p.A. (Type Certificate Currently Held by AgustaWestland S.p.A.) (Agusta) Helicopters

AGENCY: Federal Aviation Administration (FAA), DOT.

ACTION: Notice of proposed rulemaking (NPRM).

SUMMARY: We propose to revise an existing airworthiness directive (AD) for the Agusta Model AB139 and AW139 helicopters. The existing AD currently requires inspecting the fuselage frame to detect fatigue cracks which could lead to structural failure and subsequent loss of control of the helicopter. Since we issued that AD, Agusta has developed a frame reinforcement modification which supports extending the interval for inspecting the fuselage frame for a fatigue crack. This proposed AD would require inspecting the fuselage frame for a crack, but would reduce the applicability from the existing AD to exclude helicopters modified by the optional frame reinforcement modification. The proposed actions are intended to detect a fatigue crack that could result in failure of the fuselage frame and subsequent loss of control of the helicopter.

DATES: We must receive comments on this proposed AD by September 6, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, Texas 76137; telephone (817) 222-5110; email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On June 19, 2008, we issued AD 2008-14-02, Amendment 39-15597 (73 FR 39572, July 10, 2008), for Agusta model AB 139 and AW 139 helicopters, certificated in any category. AD 2008-14-02 requires, within 10 hours time-in-service (TIS), or upon accumulating 100 hours TIS since new, whichever occurs later, inspecting the fuselage frame 5700 middle section for a crack. AD 2008-14-02 also requires repeating this inspection at intervals not exceeding 100 hours TIS, and, if a crack is found, before further flight, repairing the crack in accordance with FAA-approved procedures. AD 2008-14-02 was prompted by European Aviation Safety Agency (EASA) AD No. 2006-0357, dated November 26, 2006 (EASA AD 2006-0357), which states that tests have shown that the Agusta AB/AW 139's fuselage frame 5700 middle section is prone to fatigue damage. AD 2008-14-02 is intended to detect a crack in the fuselage frame structure, to prevent structural failure of the frame, and subsequent loss of control of the helicopter.

Actions Since Existing AD Was Issued

Since we issued AD 2008-14-02 (73 FR 39572, July 10, 2008), Agusta has issued Optional Bollettino Tecnico No. 139-089, dated February 19, 2010 (BT 139-089), which describes procedures for modifying with a structural reinforcement two different part-numbered 5700 fuselage frames and one part-numbered 3900 fuselage frame, thereby extending the repetitive inspection interval for the three frames. Subsequently, EASA issued AD No. 2006-0357R1, dated April 22, 2010 (EASA AD 2006-0357R1), which revised EASA AD 2006-0357 by removing Agusta model AB139 and AW139 helicopters modified by BT 139-089 with the structural reinforced frames from the applicability requirements of the fatigue crack inspection.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

Agusta issued Bollettino Tecnico No. 139-018, Revision B, dated October 18, 2006, which specifies inspection procedures for the middle section frame 5700 for all Model AB139 and AW139 helicopters except with serial number 31002, 31003, 31004, and 31007. Subsequently, Agusta issued BT 139-089, which describes procedures for installing carbon fiber structural reinforcement skins at frame station 5700 for two part-numbered fuselage frames and for one frame station 3900 fuselage frame. Once the fuselage frames have been modified in accordance with BT 139-089, the inspection interval of Mandatory Inspection task MI53-12 may be extended. EASA classified this service information as mandatory and revised its existing AD and issued AD 2006-0357R1 to ensure the continued airworthiness of these helicopters.

Proposed AD Requirements

This proposed AD would retain all requirements of AD 2008-14-02 (73 FR 39572, July 10, 2008), but would remove from the applicability section any helicopter modified by installing the structural reinforcement skins in accordance with BT 139-089. This proposed AD would continue to require initially inspecting the fuselage frame 5700 middle section within 10 hours time-in-service (TIS), or upon accumulating 100 hours TIS since new, whichever occurs later, for a crack. This proposed action would also continue to require repeating this inspection at intervals not exceeding 100 hours TIS, and, if there is a crack, before further flight, repairing the crack in accordance with FAA-approved procedures.

Differences Between the Proposed AD and the EASA AD

The EASA AD requires contacting the type certificate (TC) holder for further instructions if damage or a crack is found; this proposed AD would require repairing the crack, before further flight, with FAA-approved procedures with no requirement to contact the TC holder. The EASA AD also excludes helicopters with serial number 31002, 31003, 31004, and 31007; whereas, this proposed AD does not.

Costs of Compliance

We estimate that this proposed AD would affect 33 helicopters of U.S. Registry. We estimate that operators may incur the following costs in order to comply with this AD. It would take about one work-hour to comply with the initial and each subsequent inspection required by this AD. The average labor rate is $85 per work-hour so the approximate cost for each inspection would be $85 per helicopter or $2,805 for the U.S.-registered fleet. We estimate the cost to repair the fuselage middle frame section would be about $10,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) AD 2008-14-02 (73 FR 39572, July 10, 2008), and adding the following new AD:

Agusta S.p.A. (Type Certificate Currently Held by AgustaWestland S.p.A.) (Agusta): Docket No. FAA-2008-0256; Directorate Identifier 2007-SW-01-AD.

(a) Applicability

This AD applies to Agusta Model AB139 and AW139 helicopters, except helicopters with reinforcement skin part number (P/N) 3G5306P08512 installed on left hand (LH) frame station 5700 P/N 3P5338A13352 and right hand (RH) frame station 5700 P/N 3P5338A13452; or with reinforcement skin P/N 3G5306P08513 installed on LH frame station 5700 P/N 3P5338A13353 and RH frame station 5700 P/N 3P5338A13453; or with LH frame station 5700 P/N 3P5338A13354 and RH frame station 5700 P/N 3P5338A13454 installed, certificated in any category.

(b) Unsafe Condition

This AD defines the unsafe condition as a fatigue crack in the fuselage frame 5700 middle section. This condition could result in structural failure of the frame and subsequent loss of control of the helicopter.

(c) Affected ADs

This AD revises AD 2008-14-02, Amendment 39-15597 (73 FR 39572, July 10, 2008).

(d) Comments Due Date

We must receive comments by September 6, 2013.

(e) Compliance

You are responsible for performing each action required by this AD within the specified compliance time unless it has already been accomplished prior to that time.

(f) Required Actions

(1) Within 10 hours time-in-service (TIS), or upon accumulating 100 hours TIS since new, whichever occurs later, inspect the fuselage frame 5700 middle section for a crack in accordance with the Compliance Instructions, paragraphs 1. through 4., of Agusta Bollettino Tecnico No. 139-018, Revision B, dated October 18, 2006.

(2) Thereafter, at intervals not exceeding 100 hours TIS, repeat the inspection as required by paragraph (f)(1) of this AD.

(3) If there is a crack, before further flight, repair the crack in accordance with an FAA-approved procedure.

(g) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, Texas 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Agusta Bollettino Tecnico No. 139-089, dated February 19, 2010, which is not incorporated by reference, specifies procedures to modify Model AB139 and AW139 helicopters by installing structural reinforcement skins at frame station 5700 to allow for extended inspection intervals for fatigue.

(2) The subject of this AD is addressed in European Aviation Safety Agency (EASA) AD No. 2006-0357R1, dated April 22, 2010. You may view the EASA AD at http://www.regulations.gov by searching for and locating it in Docket No. FAA-2008-0256.

(i) Subject

Joint Aircraft Service Component (JASC) Code: 5311, Fuselage, Main Frame.

Issued in Fort Worth, Texas, on June 28, 2013.
Kim Smith,
Directorate Manager, Rotorcraft Directorate, Aircraft Certification Service.

[FR Doc. 2013-16312 Filed 7-5-13; 8:45 am]

BILLING CODE 4910-13-P